DEPARTMENT OF ENERGY

Federal Energy Regulatory Commission

[Docket No. RP03-272-000]

Northwest Pipeline Corporation; Notice of Proposed Changes in FERC Gas Tariff

March 5, 2003.

Take notice that on February 28, 2003, Northwest Pipeline Corporation (Northwest) tendered for filing as part of its FERC Gas Tariff the following tariff sheets, to be effective April 1, 2003.

Third Revised Volume No. 1

Nineteenth Revised Sheet No. 14

Original Volume No. 2

Thirty-Fourth Revised Sheet No. 2.1

Northwest states that the purpose of this filing is to (1) propose an increase from 1.72% to 2.11% in the fuel reimbursement factor (Factor) applicable to Northwest's transportation service Rate Schedules TF-1, TF-2, TI-1, DEX-1 and for all applicable transportation service rate schedules contained in Original Volume No. 2 of Northwest's FERC Gas Tariff; (2) propose an increase from 0.95% to 1.42% for the Factor applicable to Rate Schedules LS-1, LS-2F and LS2I which pertain to the Plymouth LNG Facility storage service, and (3) to propose no change to the 0% Factor currently applicable to service at the Jackson Prairie storage project under Rate Schedules SGS-2F and SGS-2I. Northwest states that the Factors allow Northwest to be reimbursed in-kind for the fuel used during the transmission and storage of gas and for the volumes of gas lost and unaccounted-for that occur as a normal part of operating the transmission system.

Northwest states that a copy of this filing has been served upon Northwest's customers and interested state regulatory commissions.

Any person desiring to be heard or to protest said filing should file a motion to intervene or a protest with the Federal Energy Regulatory Commission, 888 First Street, NE., Washington, DC 20426, in accordance with sections 385.314 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: March 12, 2003.

Magalie R. Salas,
Secretary.

[FR Doc. 03-5813 Filed 3-11-03; 8:45 am]

BILLING CODE 6717-01-P